DEPARTMENT OF TRANSPORTATION

Federal Aviation Administration

14 CFR Part 39

[Docket No. FAA-2007-27346; Directorate Identifier 2008-NM-205-AD; Amendment 39-16176; AD 2010-02-06]

RIN 2120-AA64

Airworthiness Directives; Sicma Aero Seat 90xx and 92xx Series Passenger Seats, Installed on, But Not Limited to ATR—GIE Avions de Transport Régional Model ATR42 Airplanes and Model ATR72 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Cracks have been found in central spreaders P/N [part number] 92-000100-200-1 or P/N 92-000101-200-1. This may heavily affect the structural integrity of the seat.

Failure of the central spreaders could result in injury to an occupant during emergency conditions. We are issuing this AD to require actions to correct the unsafe condition on these products.

DATES: This AD becomes effective February 24, 2010.

The Director of the Federal Register approved the incorporation by reference of a certain publication listed in this AD as of February 24, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Jeffrey Lee, Aerospace Engineer, Boston Aircraft Certification Office, FAA, Engine and Propeller Directorate, 12 New England Executive Park, Burlington, Massachusetts 01803; telephone 781-238-7161; fax 781-238-7170.

SUPPLEMENTARY INFORMATION:

Discussion

We issued a notice of proposed rulemaking (NPRM) to amend 14 CFR part 39 to include an AD that would apply to the specified products. That NPRM was published in the Federal Register on April 6, 2007 (72 FR 17045). That NPRM proposed to correct an unsafe condition for the specified products. The MCAI states:

Cracks have been found in central spreaders P/N [part number] 92-000100-200-1 or P/N 92-000101-200-1. This may heavily affect the structural integrity of the seat.

Failure of the central spreaders could result in injury to an occupant during emergency conditions. The required actions include repetitive visual inspections for cracking of central spreaders; replacement with new central spreaders if cracking is found; and eventual installation of doublers. You may obtain further information by examining the MCAI in the AD docket.

Comments

We gave the public the opportunity to participate in developing this AD. We considered the comments received.

Request To Change Costs of Compliance Section

Sicma Aero Seat (Sicma) states that the Costs of Compliance section of the NPRM reflects that many of the seats were addressed due to the MCAI issued in 2002 (reference Direction Générale de l'Aviation Civile Airworthiness Directive 2002-504 (AB), effective October 12, 2002). Sicma also states that there were a low number of ATR Model ATR42 and ATR72 airplanes with Sicma seats operating in the United States at that time. Sicma notes that the NPRM gives an incorrect impression of the extent of the issue. In addition, Airbus states that it is surprised by the figures in the Costs of Compliance section of the NPRM. Airbus notes that the quantity of seats specified in the NPRM represent 10 airplanes and that Sicma provided 1,029 kits for doing Sicma Aero Seat Service Bulletin 92-25-005, Issue 3, dated January 17, 2003 (an equivalent of eight airplanes).

We infer that the commenters request we change the Costs of Compliance section. We agree to change the Costs of Compliance section of this AD. We reevaluated the number of seats in the U.S. fleet that may be affected and reduced our initial estimate of 3,283 seat assemblies specified in the NPRM to 1,403 seat assemblies. We have modified the Costs of Compliance section in this AD accordingly to accurately represent the current number of affected airplanes on the U.S. registry.

Request To Include Previous Issues of Service Bulletins as Alternative Methods of Compliance

Airbus requests that we include previous versions of Sicma Aero Seat Service Bulletin 92-25-005, Issue 3, dated January 17, 2003, as alternative methods of compliance to this AD. Airbus notes that the changes to the original issue of Sicma Aero Seat Service Bulletin 92-25-005, dated July 17, 2002, have been to add an appendix that lists part numbers, add the estimated time for installation of the kit, and add details of the installation of the kit for each of the types of the kits.

We partially agree. In addition to the changes described by the commenter, Issue 1 of Sicma Aero Seat Service Bulletin 92-25-005, dated August 29, 2002, made changes to the description of the appropriate actions in Part One of the Accomplishment Instructions of the service bulletin. The findings and corresponding corrective actions specified in Sicma Aero Seat Service Bulletins 92-25-005, dated July 17, 2002, are different than those described in Issue 1 and subsequent issues of the service bulletin. Therefore, only Issue 1 and Issue 2 are acceptable additional methods of compliance for the actions required by this AD. We have added paragraph (f)(3) of this AD to give credit for actions done in accordance with Sicma Aero Seat Service Bulletins 92-25-005, Issue 1, dated August 29, 2002; and Issue 2, dated October 29, 2002.

Request To Clarify the Applicability

Airbus also requests that we clarify the applicability of the NPRM. Airbus notes that the seats listed in the appendix (annex) of Sicma Aero Seat Service Bulletin 92-25-005, Issue 3, dated January 17, 2003, concern ATR Model ATR42 and ATR72 airplanes and not Airbus airplanes.

We agree to clarify the applicability. The applicability of the NPRM specified 90xx and 92xx series passenger seats but did not limit the seats to those specified in Sicma Aero Seat Service Bulletin 92-25-005, Issue 3, dated January 17, 2003. We have limited the applicability of this AD by specifying 90xx and 92xx series seat part numbers as listed in Sicma Aero Seat Service Bulletin 92-25-005, Issue 3, dated January 17, 2003, including Annex 1, dated July 17, 2002.

We have also revised this AD to identify the correct legal name of the manufacturer of Model ATR42 and ATR72 airplanes as published in the most recent type certificate data sheet for the affected airplane models.

Compliance Time Change

We have replaced the compliance time “before March 31, 2010” for the installation specified in paragraph (e)(3) of the NPRM with “Within 24 months after the effective date of this AD” in paragraph (f)(2) of this AD (which corresponds to paragraph (e)(3) of the NPRM). We have also revised Note 2 of this AD to refer to the new compliance time. In developing an appropriate compliance time, we considered the safety implications and the normal maintenance schedules for timely accomplishment of the installation. We have determined that extending the compliance time will not adversely affect safety.

Clarification of Terminating Action

We have revised the sentence requiring repetitive inspections in paragraph (f)(1) of this AD by adding the phrase “until a new central spreader, P/N 92-000100-200-1 or P/N 92-000101-200-1, and doublers, P/N 00-6536, are installed in accordance with `Part Three: Central Spreader Replacement' of the service bulletin.” Installation of the central spreader and doublers terminates the repetitive inspections. We have also revised the wording in paragraph (f)(2) of this AD to clarify the terminating action.

Change to Directorate Identifier Number

The Engine and Propeller Directorate issued the NPRM for this AD and assigned Directorate Identifier 2007-NE-07-AD to the NPRM. Because the final rule is being issued by the Transport Airplane Directorate, we have re-assigned Directorate Identifier 2008-NM-205-AD to this AD and revised the directorate identifier references in the AD accordingly.

New Subject Paragraph and Note

We have added the Air Transport Association (ATA) of America Code identifying the subject of this AD to new paragraph (d) of this AD and revised the subsequent paragraph identifiers accordingly. We have also added Note 1 to this AD to clarify that when certain conditions exist, it is necessary to request approval of an alternative method of compliance.

Revision to Reason, FAA Difference, and Other FAA AD Provisions Paragraphs

To match the template specified in FAA Order 8040.5, we have added the phrase “The mandatory continuing airworthiness information (MCAI) states” before the quoted material in paragraph (e) of this AD, removed paragraph (f) of the NPRM, and added Note 2 to this AD. Note 2 of this AD includes the same information as paragraph (f) of the NPRM. We have also added paragraphs (g)(2) and (g)(3) to this AD.

Changes to Other Paragraphs in the NPRM

We have moved the text specified in paragraph (e)(2) of the NPRM into paragraph (f)(1) of this AD, and we have reidentified paragraph (e)(3) of the NPRM as paragraph (f)(2) of this AD. We have also made minor editorial changes to paragraphs (f)(1), (f)(1)(i), (f)(1)(ii), and (f)(1)(iii) of this AD.

Changes to Service Bulletin References

We have revised the service bulletin references in paragraphs (f)(1), (f)(1)(i), (f)(1)(ii), (f)(1)(iii), and (f)(2) of this AD to specify where each action is described in the relevant service bulletin.

Clarification of Compliance Time

We have added the phrase “before further flight” to paragraph (f)(1)(iii) of this AD to clarify the compliance time for doing the temporary repair and for doing the installation after removing the temporary repair.

We have also added the phrase “after accomplishing the inspection” to paragraph (f)(1)(i) of this AD to clarify the compliance time for doing the check specified in paragraph (f)(1)(i) of this AD.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 1,403 seat assemblies on 105 airplanes of U.S. registry. We also estimate that it will take about 6 work-hours per seat assembly to comply with the basic requirements of this AD. The average labor rate is $80 per work-hour. Required parts will cost about $207 per seat assembly. Where the service information lists required parts costs that are covered under warranty, we have assumed that there will be no charge for these parts. As we do not control warranty coverage for affected parties, some parties may incur costs higher than estimated here. Based on these figures, we estimate the cost of this AD to the U.S. operators to be $963,861, or $687 per seat assembly.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-02-06 Sicma Aero Seat: Amendment 39-16176. Docket No. FAA-2007-27346; Directorate Identifier 2008-NM-205-AD.

Effective Date

(a) This airworthiness directive (AD) becomes effective February 24, 2010.

Affected ADs

(b) None.

Applicability

(c) This AD applies to Sicma Aero Seat 90xx and 92xx series passenger seats with part numbers (P/Ns) listed in Annex 1, dated July 17, 2002, of Sicma Aero Seat Service Bulletin 92-25-005, Issue 3, dated January 17, 2003. These products are installed on, but not limited to, ATR—GIE Avions de Transport Régional Model ATR42-200, -300, -320, and -500 airplanes, and Model ATR72-101, -201, -102, -202, -211, -212, and -212A airplanes; certificated in any category.

Note 1: This AD applies to certain Sicma Aero Seat passenger seats as installed on any airplane, regardless of whether the airplane has been otherwise modified, altered, or repaired in the area subject to the requirements of this AD. For airplanes that have been modified, altered, or repaired so that the performance of the requirements of this AD is affected, the owner/operator must request approval for an alternative method of compliance according to paragraph (g) of this AD. The request should include an assessment of the effect of the modification, alteration, or repair on the unsafe condition addressed by this AD; and, if the unsafe condition has not been eliminated, the request should include specific proposed actions to address it.

Subject

(d) Air Transport Association (ATA) of America Code 25: Equipment/Furnishings.

Reason

(e) The mandatory continuing airworthiness information (MCAI) states:

Cracks have been found in central spreaders P/N 92-000100-200-1 or P/N 92-000101-200-1. This may heavily affect the structural integrity of the seat.

Failure of the central spreaders could result in injury to an occupant during emergency conditions.

Actions and Compliance

(f) Unless already done, do the following actions.

(1) Within 500 flight hours after the effective date of this AD, perform a visual inspection of central spreaders, P/N 92-000100-200-1 and P/N 92-000101-200-1, of the affected seats using the Accomplishment Instructions, “Part One: Checking Procedure,” of Sicma Aero Seat Service Bulletin 92-25-005, Issue 3, dated January 17, 2003 (“the service bulletin”). If no crack is found, repeat this inspection at intervals not exceeding 500 flight hours until a new central spreader, P/N 92-000100-200-1 or P/N 92-000101-200-1, and doublers, P/N 00-6536, are installed in accordance with “Part Three: Central Spreader Replacement” of the service bulletin. Type 1, 2, and 3 cracks are defined in the Accomplishment Instructions, “Part One: Checking Procedure,” of the service bulletin.

(i) If a type 1 crack is found, within 6 months or 500 flight hours after accomplishing the inspection, whichever comes first, check the crack to determine that it did not enlarge to a type 2 or type 3 crack by using the Accomplishment Instructions, “Part One: Checking Procedure,” of the service bulletin; install doublers, P/N 00-6536, by using the Accomplishment Instructions, “Part Two: Central Spreader Modification,” of the service bulletin, and record this modification by using “B—Seat identification” of the Accomplishment Instructions, “Part One: Checking Procedure,” of the service bulletin.

(ii) If a type 2 or 3 crack is found, before further flight, replace the affected central spreader with a new one with the same part number, equipped with doublers, P/N 00-6536, by using the Accomplishment Instructions, “Part Three: Central Spreader Replacement,” of the service bulletin.

(iii) If a new spreader is unavailable, before further flight, do a temporary repair by installing doublers, P/N 00-6536, by using the Accomplishment Instructions, “Part Two: Central Spreader Modification,” of the service bulletin. This temporary repair may remain in place no longer than 500 flight hours or six months, whichever comes first. After removing the temporary repair, before further flight, install a new spreader with the same P/N equipped with doublers, P/N 00-6536, by using the Accomplishment Instructions, “Part Three: Central Spreader Replacement,” of the service bulletin, and record this modification by following the instructions in “B—Seat identification” of the Accomplishment Instructions, “Part Three: Central Spreader Replacement,” of the service bulletin.

(2) If not already done, within 24 months after the effective date of this AD, install doublers, P/N 00-6536, on new central spreaders of affected seats by using the Accomplishment Instructions, “Part Three: Central Spreader Replacement,” of Sicma Aero Seat Service Bulletin 92-25-005, Issue 3, dated January 17, 2003 (“the service bulletin”). Record this modification by following instructions in “B—Seat identification” of the Accomplishment Instructions, “Part Three: Central Spreader Replacement,” of the service bulletin. Installing a new central spreader P/N 92-000100-200-1 or 92-000101-200-1, and doublers, P/N 00-6536 on all affected seats terminates the requirements of this AD.

(3) Actions accomplished before the effective date of this AD in accordance with Sicma Aero Seat Service Bulletin 92-25-005, Issue 1, dated August 29, 2002; and Issue 2, dated October 29, 2002; are considered acceptable for compliance with the corresponding actions specified in this AD.

FAA AD Differences

Note 2: This AD differs from the MCAI and/or service information as follows: The Direction Générale de l'Aviation Civile (DGAC) airworthiness directive 2002-504(AB), effective October 12, 2002, specifies that doublers, P/N 00-6536, be installed on central spreaders of affected seats by December 31, 2005. This AD requires the doublers to be installed within 24 months after the effective date of this AD.

Other FAA AD Provisions

(h) The following provisions also apply to this AD:

(1) Alternative Methods of Compliance (AMOCs): The Manager, Boston Aircraft Certification Office, FAA, has the authority to approve AMOCs for this AD, if requested using the procedures found in 14 CFR 39.19. Send information to ATTN: Jeffrey Lee, Aerospace Engineer, Boston Aircraft Certification Office, FAA, Engine & Propeller Directorate, 12 New England Executive Park, Burlington, Massachusetts 01803; telephone 781-238-7161; fax 781-238-7170. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI DGAC Airworthiness Directive 2002-504(AB), effective October 12, 2002; and Sicma Aero Seat Service Bulletin 92-25-005, Issue 3, dated January 17, 2003, including Annex 1, dated July 17, 2002; for related information.

(i) Contact Jeffrey Lee, Aerospace Engineer, Boston Aircraft Certification Office, FAA, Engine and Propeller Directorate; 12 New England Executive Park, Burlington, MA 01803; telephone 781-238-7161; fax 781-238-7170, for more information about this AD.

Material Incorporated by Reference

(j) You must use Sicma Aero Seat Service Bulletin 92-25-005, Issue 3, dated January 17, 2003, including Annex 1, dated July 17, 2002, to do the actions required by this AD, unless the AD specifies otherwise. The Sicma Aero Seat service bulletin contains the following effective pages:

Page No. | Issue level shown on page | Date shown on page
1-30 | 3 | January 17, 2003.
ANNEX 1
1-3 | Original | July 17, 2002.

(1) The Director of the Federal Register approved the incorporation by reference of this service information under 5 U.S.C. 552(a) and 1 CFR part 51.

(2) For service information identified in this AD, contact Sicma Aero Seat, 7 Rue Lucien Coupet, 36100 Issoudun, France; telephone +33 (0) 2 54 03 39 39; fax +33 (0) 2 54 03 15 16; e-mail: customerservices@sicma.zodiac.com; Internet http://www.sicma.zodiac.com/en/.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on January 8, 2010.
Stephen P. Boyd,
Acting Manager, Transport Airplane Directorate, Aircraft Certification Service.

[FR Doc. 2010-701 Filed 1-19-10; 8:45 am]

BILLING CODE 4910-13-P